DEPARTMENT OF HOMELAND SECURITY

Federal Emergency Management Agency

44 CFR Part 67

[Docket ID FEMA-2015-0001]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Dated: October 8, 2015.
Roy E. Wright,
Deputy Associate Administrator for Insurance and Mitigation, Department of Homeland Security, Federal Emergency Management Agency.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
St. Charles County, Missouri, and Incorporated Areas
Docket Nos.: FEMA-B-1062 and B-1167
Baltic Creek | At the confluence with Dardenne Creek | +470 | City of Cottleville, City of St. Peters, City of Weldon Spring, Unincorporated Areas of St. Charles County.
| Approximately 0.7 mile upstream of the confluence with Tributary 7 | +492
Blanchette Creek (Backwater from Missouri River) | Just downstream of Katy Trail/Abandoned Railroad | +455 | City of St. Charles, Unincorporated Areas of St. Charles County.
| At the confluence with the Missouri River | +455
Boschert Creek | At the confluence with Cole Creek | +441 | City of St. Charles, Unincorporated Areas of St. Charles County.
| Approximately 0.6 mile upstream of Sibley Street | +532
Cole Creek | Approximately 0.4 mile upstream of the confluence with Boschert Creek | +443 | City of St. Charles.
| Approximately 800 feet upstream of Graystone Drive | +529
Crooked Creek | At the confluence with Dardenne Creek | +475 | City of Cottleville, City of O'Fallon, City of Weldon Spring, Unincorporated Areas of St. Charles County.
| Approximately 0.7 mile upstream of I-64 | +574
Crystal Springs Creek (Backwater from Missouri River) | At the confluence with the Missouri River | +457 | City of St. Charles, Unincorporated Areas of St. Charles County.
| Approximately 871 feet upstream of South River Road | +457
Cunningham Branch | At the confluence with Dardenne Creek | +535 | City of O'Fallon, Unincorporated Areas of St. Charles County.
| Approximately 1,250 feet upstream of State Highway D | +644
Dardenne Creek | Approximately 400 feet downstream of Norfold Southern Railroad | +444 | City of Cottleville, City of O'Fallon, City of St. Peters, Town of Dardenne Prairie, Unincorporated Areas of St. Charles County.
| Approximately 2.3 miles upstream of Oberhelman Road | +748
Duckett Creek (Overflow from Missouri River) | At the confluence with the Missouri River | +462 | Unincorporated Areas of St. Charles County.
| Approximately 0.5 miles upstream of Jungs Station Road | +463
East Branch Spencer Creek | At the confluence with Spencer Creek | +458 | City of St. Peters.
| Just downstream of Boone Hills Drive | +503
East Branch Tributary B | At the confluence with Dardenne Creek | +480 | City of Cottleville, City of O'Fallon, Unincorporated Areas of St. Charles County.
| Approximately 150 feet upstream of State Highway K | +525
East Cole Creek | At the confluence with Cole Creek | +457 | City of St. Charles.
| Approximately 600 feet upstream of Canary Lane | +478
Femme Osage Creek (Backwater from Missouri River) | Approximately 0.4 miles downstream of State Highway 94 | +476 | Unincorporated Areas of St. Charles County.
| Approximately 1.4 miles downstream of Defiance Road | +476
Kraut Run | At the confluence with Dardenne Creek | +506 | Unincorporated Areas of St. Charles County.
| Approximately 1,000 feet upstream of Wilson Road | +607
Lake Sainte Louise | Entire shoreline within community | +546 | City of Lake St. Louis.
Little Dardenne Creek | At the confluence with Dardenne Creek | +554 | Unincorporated Areas of St. Charles County.
| Approximately 0.9 mile upstream of Morrison Lane | +719
Mississippi River | At the St. Charles County, Missouri/St. Louis County, Missouri/Madison County, Illinois county boundary, approximately 6.2 miles downstream of Melvin Price Lock and Dam | +434 | City of O'Fallon, City of Portage Des Sioux, City of St. Charles, City of St. Paul, City of St. Peters, Town of West Alton, Unincorporated Areas of St. Charles County.
| At the St. Charles County/Lincoln County boundary, approximately 3.0 miles upstream of confluence with Peruue Creek | +444
Missouri River | At the St. Charles County, Missouri/St. Louis County, Missouri/Madison County, Illinois county boundary, approximately 7.4 miles downstream of the Lewis Bridge | +434 | City of St. Charles, City of Weldon Spring, Town of West Alton, Town of Augusta, Unincorporated Areas of St. Charles County.
| Near the St. Charles County/Warren County boundary, approximately 22.3 miles upstream of the Daniel Boone Bridge | +492
Oday Creek | At the confluence with Dardenne Creek | +505 | City of Lake St. Louis, City of O'Fallon, City of St. Charles, Unincorporated Areas of St. Charles County.
| Approximately 425 feet upstream of State Highway N | +587
Old Dardenne Creek | At the confluence with Dardenne Creek | +486 | Town of Dardenne Prairie, City of O'Fallon, City of St. Charles, Unincorporated Areas of St. Charles County.
| Approximately 350 feet upstream of U.S. Route 40/61 | +502
Peruque Creek | Approximately 0.3 mile downstream of State Highway Z | +530 | City of Foristell, City of Wentzville, Unincorporated Areas of St. Charles County.
| Approximately 1.3 miles upstream of State Highway T | +630
Peruque Creek Tributary 12 | At the confluence with Peruque Creek | +471 | City of St. Paul, Unincorporated Areas of St. Charles County.
| Approximately 0.4 mile upstream of Meadow Farm Lane | +527
Peruque Creek Tributary 14 | Approximately 0.2 mile upstream of the confluence with Peruque Creek | +464 | City of O'Fallon, Unincorporated Areas of St. Charles County.
| Approximately 1,000 feet upstream of Civic Park Drive | +512
Peruque Creek Tributary 15 | Approximately 900 feet upstream of the confluence with Peruque Creek | +464 | City of O'Fallon.
| Approximately 1,300 feet upstream of Main Street | +507
Peruque Creek Tributary 2 | At the confluence with Peruque Creek | +613 | City of Foristell, Unincorporated Areas of St. Charles County.
| Approximately 600 feet upstream of State Highway T | +734
Peruque Creek Tributary 8 | Approximately 1.0 mile upstream of the confluence with Peruque Creek | +505 | City of Lake St. Louis, City of Wentzville.
| Approximately 0.6 mile upstream of I-70 | +546
Peruque Creek Tributary 9 | Approximately 1.0 mile upstream of the confluence with Peruque Creek | +505 | City of Lake St. Louis, Unincorporated Areas of St. Charles County.
| Approximately 0.4 mile upstream of Henke Road | +539
Sandfort Creek | Just downstream of Norfolk Southern Railroad | +442 | City of St. Charles, Unincorporated Areas of St. Charles County.
| Approximately 350 feet downstream of Muegge Road | +497
Schote Creek | At the confluence with Dardenne Creek | +481 | City of O'Fallon, Town of Dardenne Prairie, Unincorporated Areas of St. Charles County.
| Approximately 1.6 miles upstream of U.S. Route 40/61 | +583
Spencer Creek | Approximately 365 feet upstream of the railroad | +444 | City of St. Peters, Unincorporated Areas of St. Charles County.
| Approximately 1,200 feet upstream of Millwood Drive | +526
Taylor Branch (Backwater from Missouri River) | At the confluence with the Missouri River | +460 | City of St. Charles, Unincorporated Areas of St. Charles County.
| Approximately 0.6 miles upstream of South River Road | +460
Tributary A | At the confluence with Dardenne Creek | +469 | City of St. Peters, Unincorporated Areas of St. Charles County.
| Approximately 500 feet upstream of Starlight Drive | +536
Tributary No. 1 | At the confluence with Dardenne Creek | +464 | City of St. Peters, Unincorporated Areas of St. Charles County.
| Approximately 400 feet upstream of Harris Drive | +473
Tributary No. 13 | At the confluence with Dardenne Creek | +486 | Town of Dardenne Prairie, City of O'Fallon.
| Approximately 700 feet upstream of McClure Road | +508
Tributary No. 15 | At the confluence with Dardenne Creek | +495 | Town of Dardenne Prairie, City of O'Fallon, Unincorporated Areas of St. Charles County.
| Approximately 300 feet upstream of Keystone Crossing Drive | +567
Tributary No. 17 | Approximately 0.8 mile upstream of the confluence with Dardenne Creek | +522 | City of O'Fallon, Unincorporated Areas of St. Charles County.
| Approximately 900 feet upstream of Hopewell Road | +895
Tributary No. 19 | Approximately 1,300 feet upstream of the confluence with Dardenne Creek | +505 | Unincorporated Areas of St. Charles County.
| Approximately 2.1 miles upstream of the confluence with Dardenne Creek | +573
Tributary No. 2 | Just upstream of Ohmes Road | +465 | City of St. Peters.
| Approximately 0.5 mile upstream of Ohmes Road | +478
Tributary No. 3 | At the confluence with Tributary A | +469 | Unincorporated Areas of St. Charles County.
| Approximately 0.8 mile upstream of St. Peters-Howell Road | +503
Tributary No. 4 | At the confluence with Tributary A | +469 | City of St. Peters, Unincorporated Areas of St. Charles County.
| Approximately 1,150 upstream of Woodstream Drive | +509
Tributary No. 7 | At the confluence with Baltic Creek | +482 | City of St. Peters, City of Weldon Spring.
| Approximately 0.8 mile upstream of Pitmann Hill Road | +504
Tributary No. 9 | At the confluence with Crooked Creek | +480 | City of Weldon Spring, Unincorporated Areas of St. Charles County.
| Approximately 0.5 mile upstream of Guthermuth Road | +497
West Branch Spencer Creek | At the confluence with Spencer Creek | +450 | Unincorporated Areas of St. Charles County.
| Approximately 400 feet upstream of Willott Road | +510
West Branch Tributary B | At the confluence with East Branch Tributary B | +489 | Town of Dardenne Prairie.
| Approximately 150 feet upstream of Bryan Road | +622
West Sandfort Creek | At the confluence with Sandfort Creek | +450 | City of St. Charles, Unincorporated Areas of St. Charles County.
| Approximately 1,400 feet upstream of Harry S. Truman Boulevard | +459
* National Geodetic Vertical Datum.
+ North American Vertical Datum.
# Depth in feet above ground.
‸ Mean Sea Level, rounded to the nearest 0.1 meter.
ADDRESSES
City of Cottleville
Maps are available for inspection at City Hall, 5490 5th Street, Cottleville, MO 63338.
City of Foristell
Maps are available for inspection at City Hall, 121 Mulberry Street, Foristell, MO 63348.
City of Lake St. Louis
Maps are available for inspection at City Hall, 200 Civic Center Drive, Lake St. Louis, MO 63367.
City of O'Fallon
Maps are available for inspection at City Hall, 100 North Main Street, O'Fallon, MO 63366.
City of Portage Des Sioux
Maps are available for inspection at the County Adminstration Building, 201 North 2nd Street, Room 420, St. Charles, MO 63301.
City of St. Charles
Maps are available for inspection at City Hall, 200 North 2nd Street, St. Charles, MO 63301.
City of St. Paul
Maps are available for inspection at City Hall, 2300 St. Paul Road, St. Paul, MO 63366.
City of St. Peters
Maps are available for inspection at City Hall, 1 St. Peters Centre Boulevard, St. Peters, MO 63376.
City of Weldon Spring
Maps are available for inspection at City Hall, 5401 Independence Road, Weldon Spring, MO 63304.
City of Wentzville
Maps are available for inspection at City Hall, 310 West Pearce Boulevard, Wentzville, MO 63385.
Town of Dardenne Prairie
Maps are available for inspection at Town Hall, 2032 Hanley Road, Dardenne Prairie, MO 63368.
Town of West Alton
Maps are available for inspection at 201 North 2nd Street, Room 420, St. Charles, MO 63301.
Unincorporated Areas of St. Charles County
Maps are available for inspection at the County Adminstration Building, 201 North 2nd Street, Room 420, St. Charles, MO 63301.
Town of Augusta
Maps are available for inspection at Town Hall, 239 Green Street, Augusta, MO 63332.

[FR Doc. 2015-27186 Filed 10-23-15; 8:45 am]

BILLING CODE 9110-12-P